FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

Tillicum Global Networks, Inc., 830 Arlington Avenue, Torrance, CA 90501. Officers: Eun K. Han, President (Qualifying Individual), David G. Han, Secretary

ELS Logistics Services LLC, 500 Kennedy Drive, Sayreville, NJ 08872. Officers: Max Kislevitz, Vice President (Qualifying Individual), Edmond Erani, President.

Premier Van Lines, Inc. dba Premier International Group, 3953 South 200 East, Salt Lake City, UT 84107. Officers: Wm. Jake Shepherd, Senior Vice President (Qualifying Individual), Michael A. Cordell, President.

Ours Logis, Inc. 550 Carson Plaza Drive, Suite 113, Carson, CA 90746. Officer: Hyung Joon Ahn, President (Qualifying Individual).

Aramex International Courier Ltd. dba Aramex International, 165-15 145th Drive, Jamaica, NY 11434. Officers: Haitham Alex Ajlouni, President (Qualifying Individual), Mike A. Abufaris, General Manager.

Petcon Freight Systems, LLC, 175-01 Rockaway Blvd., Suite 215-218, Jamaica, NY 11434. Officers: Ben Arculli, President (Qualifying Individual), David Mah, CEO.

Tru-Line Logistics, Inc., 3025 W. Artesia Blvd., Suite 100, Torrance, CA 90504. Officers: Susan Mi Young Pak Thomas, CEO (Qualifying Individual), Mark Alan Thomas, CFO.

Yicheng Logistics (Puerto Rico), Inc., 954 Ponce De Leon Avenue, Suite 704A, Santurce, PR 00907. Officers: Yaqing Zhou, President (Qualifying Individual), Iris Robles, General Manager.

Non-Vessel Operating Common Carrier and Ocean Freight Forwarder Transportation Intermediary Applicants

Kairos Logistics, LLC, 9613 Brock Avenue, Downey, CA 90240. Officers: Kang M. Lee, Operating Manager (Qualifying Individual), Jeffrey Joo Hyung Lee, Secretary.

Atlantic Ocean International, Corp., 7205 NW 68th Street, Bay #14, Miami, FL 33166. Officers: Edith Ochoa, President (Qualifying Individual), Edith Restrepo, Vice President.

Frontline Sourcing, Inc., 1053-B Willingham Drive, Atlanta, GA 30344. Officers: Bernell Grizzard, President (Qualifying Individual), Raiford D. Helton, Secretary.

Volvo Logistics North America, Inc., 113 Corporate Drive, Radford, VA 24141. Officers: Alfred R. Sheeley, Vice President (Qualifying Individual), Mary S. Alt, President.

Ocean Freight Forwarder—Ocean Transportation Intermediary Applicants

Pacorini USA, Inc., One Alabo Street, New Orleans, LA 70117. Officers: Barbara G. Chopin, Vice President (Qualifying Individual), Mario Casciano, Director.

Navicargo Logistics and CFS, Inc., 8860 NW 102 Street, Medley, FL 33178. Officers: Orlando Yanez Santana, President (Qualifying Individual), Evaristo Yanez Santana, Secretary.

Dated: December 3, 2004.
Bryant L. VanBrakle,
Secretary.

[FR Doc. 04-26988 Filed 12-7-04; 8:45 am]

BILLING CODE 6730-01-P